INTERNATIONAL TRADE COMMISSION

[Investigation No. 731-TA-1626 (Final)]

Paper Shopping Bags From Turkey; Determination

On the basis of the record ¹ developed in the subject investigation, the United States International Trade Commission (“Commission”) determines, pursuant to the Tariff Act of 1930 (“the Act”), that an industry in the United States is materially injured by reason of imports of paper shopping bags from Turkey, provided for in subheadings 4819.30.00 and 4819.40.00 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 89 FR 19295 (March 18, 2024).

Background

The Commission instituted this investigation effective May 31, 2023, following receipt of a petition filed with the Commission and Commerce by the Coalition for Fair Trade in Shopping Bags, a coalition whose members include Novolex Holdings, LLC, Charlotte, North Carolina, and the United Steel, Paper and Forestry, Rubber, Manufacturing, Energy, Allied Industrial and Service Workers International Union, Pittsburgh, Pennsylvania. The Commission scheduled the final phase of the investigation following notification of a preliminary determination by Commerce that imports of paper shopping bags from Turkey were being sold at LTFV within the meaning of § 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of January 18, 2024 (89 FR 3424). The Commission conducted its hearing on March 14, 2024.

The Commission made this determination pursuant to § 735(b) of the Act (19 U.S.C. 1673d(b)). It completed and filed its determination in this investigation on May 2, 2024. The views of the Commission are contained in USITC Publication 5504 (May 2024), entitled Paper Shopping Bags from Turkey: Inv. No. 731-TA-1626 (Final).

By order of the Commission.
Issued: May 2, 2024.
Sharon Bellamy,
Supervisory Hearings and Information Officer.

[FR Doc. 2024-10005 Filed 5-7-24; 8:45 am]

BILLING CODE 7020-02-P